DEPARTMENT OF HEALTH AND HUMAN SERVICES

Centers for Disease Control and Prevention

[60Day-26-0004; Docket No. CDC-2026-0003]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on continuing information collection, as required by the Paperwork Reduction Act of 1995. This notice invites comment on a proposed information collection project titled National Disease Surveillance Program—II. Disease Summaries information collection. This collection is used to determine the prevalence of diseases and for the planning and evaluation of programs that prevent and control infectious disease.

DATES: CDC must receive written comments on or before March 16, 2026.

ADDRESSES: You may submit comments, identified by Docket No. CDC-2026-0003 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Disease Surveillance Program II Disease Summaries (OMB Control No. 0920-0004, Exp. 4/30/2026)—Extension—National Center for Immunization and Respiratory Diseases (NCIRD), Centers for Disease Control and Prevention (CDC).

Background and Brief Description

CDC requests a three-year approval for the Extension of the National Disease Surveillance Program II—Disease Summaries information collection. As with previous approvals, these data are essential for measuring trends in diseases, evaluating the effectiveness of current preventive strategies, and determining the need to modify current preventive measures. The following diseases are included in this surveillance program: Influenza Virus, Caliciviruses, Respiratory and Enteric Viruses, Enteroviruses, Adenoviruses, Arthropod-Borne Diseases (Non-Human Data), and Pediatric Hepatitis of Unknown Etiology. This Extension with minimal modifications includes 10 influenza forms, Suspect Respiratory Virus Patient Form, Middle East Respiratory Syndrome Coronavirus (MERS) Patient Under Investigation (PUI) Form, Viral Gastroenteritis Outbreak Submission Form, National Respiratory and Enteric Virus Surveillance System (NREVSS) Laboratory Assessment and National Enterovirus Surveillance Report, National Adenovirus Type Reporting System (NATRS) Form, Aggregate case counts of persons exposed to Highly Pathogenic Avian Influenza (HPAI), Pediatric Hepatitis of Unknown Etiology Medical Record Abstraction Form (CRF) and Pediatric Hepatitis of Unknown Etiology Medical Record Abstraction short form version, and Arthropod (Vector)-Borne Diseases (Non-Human Data). These forms will have minor edits with no burden change from last OMB approval. The data from these forms will enable rapid detection and characterization of outbreaks of known pathogens, as well as potential newly emerging viral pathogens.

CDC requests OMB approval for an estimated 27,458 annual burden hours. There is no cost to respondents other than their time to participate.

Estimated Annualized Burden Hours
Type of respondent | Form name | Number of respondents | Number of responses per respondent | Average burden per response (in hr) | Total burden (in hr)
Epidemiologist | Attachment E—WHO Collaborating center for Influenza—Influenza Virus Surveillance | 47 | 52 | 10/60 | 407
Epidemiologist | Attachment F—U.S. WHO Collaborating Laboratories Influenza Testing Methods Assessment | 113 | 1 | 10/60 | 19
Epidemiologist | Attachment H—US Outpatient Influenza-like Illness Surveillance Network (ILINet) Workfolder 55.20E | 1,800 | 52 | 10/60 | 15,600
Epidemiologist | Attachment J—Influenza-Associated Pediatric Mortality—Case Report Form | 57 | 2 | 30/60 | 57
Epidemiologist | Attachment K—Human Infection with Novel Influenza A Virus Case Report Form | 57 | 2 | 30/60 | 57
Epidemiologist | Attachment M—Human Infection with Novel Influenza A Virus Severe Outcomes | 57 | 1 | 90/60 | 86
Epidemiologist | Attachment P—Novel Influenza A Virus Case Screening Form | 57 | 1 | 15/60 | 14
Epidemiologist | Attachment T—Antiviral Resistant Influenza Infection Case Report Form | 57 | 3 | 30/60 | 86
Epidemiologist | Attachment U—National Respiratory & Enteric Virus Surveillance System (NREVSS) (55.83A, B, D) (electronic) | 550 | 52 | 15/60 | 7150
Epidemiologist | Attachment V—National Enterovirus Surveillance Report: (CDC 55.9) (electronic) | 20 | 12 | 15/60 | 60
Epidemiologist | Attachment W—National Adenovirus Type Reporting System (NATRS) | 13 | 4 | 15/60 | 13
Epidemiologist | Attachment X—Middle East Respiratory Syndrome (MERS) Patient Under Investigation (PUI) Short Form | 57 | 3 | 25/60 | 71
Epidemiologist | Attachment Y—Viral Gastroenteritis Outbreak Submission Form | 20 | 5 | 5/60 | 8
Epidemiologist | Attachment AA—Influenza Virus (Electronic, Year Round), PHLIP_HL7 messaging Data Elements | 57 | 52 | 5/60 | 247
Epidemiologist | Attachment BB—Influenza virus (electronic, year round) (PHIN-MS) | 3 | 52 | 5/60 | 13
Epidemiologist | Attachment CC—Suspect Respiratory Virus Patient Form | 10 | 5 | 30/60 | 25
Epidemiologist | Attachment EE, Aggregate counts of persons exposed to Highly Pathogenic Avian Influenza (HPAI) | 52 | 52 | 10/60 | 451
Epidemiologist | Attachment FF, Pediatric Hepatitis of Unknown Etiology Medical Record Abstraction Short Form | 52 | 4 | 15/60 | 52
Epidemiologist | Attachment GG, Pediatric Hepatitis of Unknown Etiology Medical Record Abstraction Form (CRF) | 52 | 2 | 45/60 | 78
Epidemiologist | Attachment HH, Arthropod (Vector)-Borne Diseases (Non-Human Data) | 57 | 52 | 60/60 | 2964
Total |  |  |  |  | 27,458

Jeffrey M. Zirger,
Lead, Information Collection Review Office, Office of Public Health Ethics and Regulations, Office of Science, Centers for Disease Control and Prevention.

[FR Doc. 2026-00421 Filed 1-12-26; 8:45 am]

BILLING CODE 4163-18-P